DEPARTMENT OF THE INTERIOR

Bureau of Land Management

[LLCA930000.L1430000.EU0000. CACA 053115]

Notice of Realty Action: Direct Sale of Public Land in Shasta County, CA

AGENCY: Bureau of Land Management, Interior.

ACTION: Notice.

SUMMARY: The Bureau of Land Management (BLM), Redding Field Office, proposes to sell a parcel of public land totaling approximately 40 acres in Shasta County, California. The public land would be sold to John and Tina Dunlap for the appraised fair market value of $43,000.

DATES: Comments regarding the proposed sale must be received by the BLM on or before November 19, 2012.

ADDRESSES: Written comments concerning the proposed sale should be sent to the Field Manager, BLM, Redding Field Office, 355 Hemsted Drive, Redding, California 96002.

FOR FURTHER INFORMATION CONTACT: Ilene Emry, Realty Specialist, BLM, Redding Field Office, or phone 530-224-2122. Persons who use a telecommunications device for the deaf (TDD) may call the Federal Information Relay Service (FIRS) at 1-800-877-8339 to contact the above individual during normal business hours. The FIRS is available 24 hours a day, 7 days a week, to leave a message or question for the above individual. You will receive a reply during normal business hours.

SUPPLEMENTARY INFORMATION: The following public land is proposed for direct sale in accordance with Sections 203 and 209 of the Federal Land Policy and Management Act of 1976 (FLPMA), as amended (43 U.S.C. 1713 and 1719).

Mount Diablo Meridian

T. 34 N., R. 1 W.,

Sec. 21, SE¼NW¼.

The area described contains 40 acres in Shasta County.

The public land was first identified as suitable for disposal by exchange in the 1993 BLM Redding Resource Management Plan (RMP). The Redding RMP was amended in 2005 to identify the land as available for sale. The land is not needed for any other Federal purpose and its disposal would be in the public interest. The purpose of the sale is to dispose of public land which is difficult and uneconomic to manage as part of the public lands and is not suitable for management by another Federal department or agency. The land proposed for sale is considered to be difficult and uneconomic to manage because it lacks legal access and is isolated from other public lands in the region. The BLM is proposing a direct sale to John and Tina Dunlap, who own all the private land surrounding the public land proposed for sale. The BLM has concluded that a competitive sale is not appropriate and that the public interest would best be served by a direct sale to Mr. and Mrs. Dunlap. The BLM has completed a mineral potential report which concluded that there are no known mineral values on the land proposed for sale. The BLM proposes to convey all mineral interests in land proposed for sale. The conveyance of all Federal mineral interests would occur simultaneously with the sale of the land. The purchaser would be required to pay a $50 nonrefundable filing fee for processing the conveyance of the mineral interests.

On October 5, 2012, the above described land will be segregated from all forms of appropriation under the public land laws, including the mining laws, except for the sale provisions of the FLPMA. Until completion of the sale, the BLM will no longer accept land use applications affecting the identified public land, except applications for the amendment of previously filed right-of-way applications or existing authorizations to increase the term of the grants in accordance with 43 CFR 2802.15 and 2886.15. The temporary segregation will terminate upon issuance of a patent, publication in the Federal Register of a termination of the segregation, or on October 6, 2014, unless extended by the BLM State Director in accordance with 43 CFR 2711.1-2(d) prior to the termination date. The land would not be sold until at least December 4, 2012. Any conveyance document issued would contain the following terms, conditions, and reservations:

1. A reservation of a right-of-way to the United States for ditches and canals constructed by authority of the United States under the Act of August 30, 1890 (43 U.S.C. 945);

2. A condition that the conveyance be subject to all valid existing rights of record;

3. An appropriate indemnification clause protecting the United States from claims arising out of the patentee's use, occupancy, or operations on the patented lands; and

4. Additional terms and conditions that the authorized officer deems appropriate.

Detailed information concerning the proposed sale including the appraisal, planning and environmental documents, and mineral report are available for review at the location identified in ADDRESSES above.

Public Comments regarding the proposed sale may be submitted in writing to the attention of the BLM Redding Field Manager (see ADDRESSES above) on or before November 19, 2012. Comments received in electronic form, such as email will not be considered. Any adverse comments regarding the proposed sale will be reviewed by the BLM State Director or other authorized official of the Department of the Interior, who may sustain, vacate, or modify this realty action in whole or in part. In the absence of timely filed objections, this realty action will become the final determination of the Department of the Interior. Before including your address, phone number, email address, or other personal identifying information in your comment, be advised that your entire comment—including your personal identifying information—may be made publicly available at any time. While you can ask us in your comment to withhold from public review your personal identifying information, we cannot guarantee that we will be able to do so.

Authority: 43 CFR 2711.1-2(a) and (c).

Cynthia Staszak,
Associate Deputy State Director for Natural Resources.

[FR Doc. 2012-24632 Filed 10-4-12; 8:45 am]

BILLING CODE 4310-40-P